DEPARTMENT OF COMMERCE

International Trade Administration

[A-583-008]

Circular Welded Carbon Steel Pipes and Tubes from Taiwan; Extension of Time Limit for Preliminary Results of Antidumping Duty Administrative Review

AGENCY: Import Administration, International Trade Administration, Department of Commerce.

FOR FURTHER INFORMATION CONTACT: Steve Bezirganian or Robert James, AD/CVD Operations, Office 7, Import Administration, International Trade Administration, U.S. Department of Commerce, 14th Street and Constitution Avenue NW, Washington, DC 20230; telephone: (202) 482-1131 or (202) 482-0649, respectively.

SUPPLEMENTARY INFORMATION:

Background

On June 1, 2009, the Department of Commerce (the Department) received a timely request from interested party Wheatland Tube Company (petitioner) to conduct an administrative review of the antidumping duty order on circular welded carbon steel pipes and tubes from Taiwan.¹ On June 24, 2009, the Department published a notice of initiation of this administrative review, covering the period of May 1, 2008 to April 30, 2009. The respondent is Yieh Phui Enterprise Co., Ltd. See Initiation of Antidumping and Countervailing Duty Administrative Reviews and Requests for Revocation in Part, 74 FR 30052 (June 24, 2009). The current deadline for the preliminary results of this review is January 31, 2010.

¹ Because the last day of the anniversary month of this order, May 31, 2009, fell on a Sunday, petitioner was able to file its request for review on the next business day, Monday, June 1, 2009.

Extension of Time Limits for Preliminary Results

Section 751(a)(3)(A) of the Tariff Act of 1930, as amended (the Act), requires the Department to complete the preliminary results of an administrative review within 245 days after the last day of the anniversary month of an order for which a review is requested. However, if it is not practicable to complete the review within this time period, section 751(a)(3)(A) of the Act allows the Department to extend the time limit for the preliminary results to a maximum of 365 days after the last day of the anniversary month of an order for which a review is requested.

The Department finds it is not practicable to complete the preliminary results of this review within the original time frame because we require additional time to obtain information from the respondent and to analyze various complicated issues involving, for example, respondent's reporting of product characteristics and its cost allocation methodologies. Accordingly, the Department is extending the time limit for completion of the preliminary results of this administrative review until no later than May 31, 2010, which is 365 days from the last day of the anniversary month. As this date falls on a federal holiday, the preliminary results are due June 1, 2010. See Notice of Clarification: Application of “Next Business Day” Rule for Administrative Determination Deadlines Pursuant to the Tariff Act of 1930, As Amended, 70 FR 24533 (May 10, 2005). We intend to issue the final results no later than 120 days after publication of the preliminary results notice.

This extension is issued and published in accordance with sections 751(a)(3)(A) and 777(i) of the Act.

Dated: January 5, 2010.
John M. Andersen,
Acting Deputy Assistant Secretary for Antidumping and Countervailing Duty Operations.

[FR Doc. 2010-278 Filed 1-8-10; 8:45 am]

BILLING CODE 3510-DS-S